DEPARTMENT OF HEALTH AND HUMAN SERVICES

Centers for Disease Control and Prevention

Disease, Disability, and Injury Prevention and Control Special Emphasis Panel (SEP)—SIP22-005, Building Resilience Against Climate Effects (BRACE): Enhancing Practical Guidance To Support Climate and Health Adaptation Planning; Amended Notice of Closed Meeting

Notice is hereby given of a change in the meeting of the Disease, Disability, and Injury Prevention and Control Special Emphasis Panel (SEP)—SIP22-005, Building Resilience Against Climate Effects (BRACE): Enhancing Practical Guidance to Support Climate and Health Adaptation Planning; May 4, 2022, 11 a.m.-6 p.m., EDT, in the original FRN.

The meeting was published in the Federal Register on March 1, 2022, Volume 87, Number 40, page 11444.

The meeting is being amended to change the meeting date and time and should read as follows:

Name of Committee: Disease, Disability, and Injury Prevention and Control Special Emphasis Panel (SEP)—SIP22-005, Building Resilience Against Climate Effects (BRACE): Enhancing Practical Guidance to Support Climate and Health Adaptation Planning.

Date: May 19, 2022.

Time: 3 p.m.-6 p.m., EDT.

Place: Teleconference.

Agenda: To review and evaluate grant applications.

The meeting is closed to the public.

SUPPLEMENTARY INFORMATION: In accordance with 41 CFR 102-3.150(b), less than 15 calendar days' notice is being given for this amended closed meeting due to an unforeseen medical emergency and exceptional circumstances that led to an anomaly of programmatic matters and the necessity to resolve issues, reschedule, and convene as soon as possible.

FOR FURTHER INFORMATION CONTACT: Jaya Raman, Ph.D., Scientific Review Officer, CDC, 4770 Buford Highway, Mailstop F80, Atlanta, Georgia 30341, Telephone: (770) 488-6511, kva5@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-10023 Filed 5-9-22; 8:45 am]

BILLING CODE 4163-18-P